DEPARTMENT OF COMMERCE

International Trade Administration

[A-570-912]

Certain New Pneumatic Off-the-Road Tires From the People's Republic of China: Notice of Partial Rescission of the Antidumping Duty Administrative Review; 2017-2018

AGENCY: Enforcement and Compliance, International Trade Administration, Department of Commerce.

SUMMARY: The Department of Commerce (Commerce) is rescinding the administrative review, in part, of the antidumping duty order on certain new pneumatic off-the-road tires (OTR tires) from the People's Republic of China (China) for the period September 1, 2017, through August 31, 2018.

DATES: Applicable April 5, 2019.

FOR FURTHER INFORMATION CONTACT: Keith Haynes, AD/CVD Operations, Office III, Enforcement and Compliance, International Trade Administration, U.S. Department of Commerce, 1401 Constitution Avenue NW, Washington, DC 20230; telephone: (202) 482-5139.

SUPPLEMENTARY INFORMATION:

Background

On September 11, 2018, Commerce published a notice of opportunity to request an administrative review of the antidumping duty order on OTR tires from China.¹ From September 27, 2018, through October 1, 2018, Commerce received timely requests to conduct an administrative review of the antidumping duty order on OTR tires from China from the following firms: Qingdao Honghua Tyre Factory (Honghua Tyre); Triangle Tyre Co., Ltd. (Triangle); Lianzhou Xiongying Industry Co., Ltd. (Xiongying); Qingdao Jinhaoyang International Co., Ltd. (Jinhaoyang); Weihai Zhongwei Rubber Co., Ltd. (Zhongwei); and Super Grip Corporation (Super Grip).² Based on these requests, on November 11, 2018, in accordance with section 751(a) of the Tariff Act of 1930, as amended (the Act), Commerce published in the Federal Register a notice of initiation of an administrative review covering the period September 1, 2017, through August 31, 2018.³ On December 17, 2018, Xiongying submitted a timely request to withdraw its request for administrative review.⁴ On February 4, 2019, Triangle submitted a timely request to withdraw its request for administrative review.⁵ On March 19, 2019, Jinhaoyang submitted a timely request to withdraw its request for administrative review.⁶

¹ See Antidumping or Countervailing Duty Order, Finding, or Suspended Investigation; Opportunity to Request Administrative Review, 83 FR 45888 (September 11, 2018).

² See Honghua's letter, “Request for Administrative Review: Certain New Pneumatic Off-the-Road Tires from the People's Republic of China,” dated September 27, 2018; Triangle Tyre's letter, “Certain New Pneumatic Off-the-Road Tires from the People's Republic of China: Request for Antidumping Administrative Review,” dated September 28, 2018; Xiongying's letter, “Certain New Pneumatic Off-the-Road Tires from the People's Republic of China: Request for Review,” dated September 28, 2018; Jinhaoyang's letter, “Jinhaoyang Request for AD Administrative Review: New Pneumatic Off-The-Road Tires People s Republic of China Request for Administrative Review (A-570-912),” dated September 28, 2018; Zhongwei's letter, “Certain New Pneumatic Off-the-Road Tires from the People's Republic of China: Request for Administrative Review,” dated October 1, 2018; and Super Grip's letter, “Certain New Pneumatic Off-The-Road Tires People's Republic of China Request for Administrative Review,” dated October 1, 2018 (Super Grip, a U.S. importer, requested a review of Zhongwei).

³ See Initiation of Antidumping and Countervailing Duty Administrative Reviews, 83 FR 45888 (November 11, 2018).

⁴ See Xiongying's letter, “Certain New Pneumatic Off-the-Road Tires from the People's Republic of China: Withdrawal of Request for Review,” dated December 17, 2018.

⁵ See Triangle Tyre's letter, “New Pneumatic Off-The-Road Tires from the People's Republic of China -Withdrawal of Triangle Tyre Request for Administrative Review,” dated February 4, 2019.

⁶ See Jinhoayang's letter, “Jinhaoyang's Withdrawal of Request for AD Administrative Review Certain New Pneumatic Off-the-Road Tires from China (A-570-912),” dated March 19, 2019.

Additionally, Commerce exercised its discretion to toll all deadlines affected by the partial federal government closure from December 22, 2018, through the resumption of operations on January 29, 2019.⁷ If the new deadline falls on a non-business day, in accordance with Commerce's practice, the deadline will become the next business day. In this case, the original deadline for parties to withdraw requests for administrative review was February 13, 2019. Therefore, the revised deadline to withdraw a review request was March 25, 2019. The revised deadline for the preliminary results in this review is now Friday, July 12, 2019.

⁷ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Partial Rescission of Review

Pursuant to 19 CFR 351.213(d)(1), the Secretary will rescind an administrative review, in part, if a party who requested the review withdraws the request within 90 days of the date of publication of the notice of initiation of the requested review. Xiongying, Triangle, and Jinhaoyang timely withdrew their requests for an administrative review, and no other party requested a review of these companies. Accordingly, we are rescinding this review, in part, with respect to these companies, pursuant to 19 CFR 351.213(d)(1). The review will continue with respect to Honghua Tyre, Zhongwei, and Super Grip.

Assessment

Commerce will instruct U.S. Customs and Border Protection (CBP) to assess antidumping duties on all appropriate entries of OTR tires at rates equal to the cash deposit of estimated antidumping duties required at the time of entry, or withdrawal from warehouse, for consumption, in accordance with 19 CFR 351.212(c)(1)(i). Commerce intends to issue appropriate assessment instructions to CBP 15 days after the publication of this notice in the Federal Register, if appropriate.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of the antidumping and/or countervailing duties occurred and the subsequent assessment of doubled antidumping duties.

Notification Regarding Administrative Protective Order

This notice serves as a final reminder to parties subject to an administrative protective order (APO) of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: April 2, 2019.
James Maeder,
Associate Deputy Assistant Secretary for Antidumping and Countervailing Duty Operations performing the duties of Deputy Assistant Secretary for Antidumping and Countervailing Duty Operations.

[FR Doc. 2019-06702 Filed 4-4-19; 8:45 am]

BILLING CODE 3510-DS-P